DEPARTMENT OF THE INTERIOR

National Park Service

[NPS-WASO-BSD-FEES-NPS0030498; PX.XBSAD 0113.00.1 (200); OMB Control Number 1024-0252]

Agency Information Collection Activities; Submission to the Office of Management and Budget for Review and Approval; the Interagency Access Pass and Senior Pass Application Processes

AGENCY: National Park Service, Interior.

ACTION: Notice of information collection; request for comment.

SUMMARY: In accordance with the Paperwork Reduction Act of 1995, we, the National Park Service (NPS) are proposing to renew an information collection.

DATES: Interested persons are invited to submit comments on or before August 28, 2020.

ADDRESSES: Written comments and recommendations for the proposed information collection should be sent within 30 days of publication of this notice to www.reginfo.gov/public/do/PRAMain. Find this particular information collection by selecting “Currently under 30-day Review—Open for Public Comments” or by using the search function. Please provide a copy of your comments to Phadrea Ponds, NPS Information Collection Clearance Officer, 1201 Oakridge Drive, Fort Collins, CO 80525; or by email at phadrea_ponds@nps.gov. Please reference OMB Control Number 1024-0252 in the subject line of your comments.

FOR FURTHER INFORMATION CONTACT: To request additional information about this ICR contact Peggi Brooks, Interagency Pass Program Manager, National Park Service by email at peggi_brooks@nps.gov; or by telephone at 202-513-7132. Please reference OMB Control Number 1024-0252 in the subject line of your comments. Individuals who are hearing or speech impaired may call the Federal Relay Service at 1-800-877-8339 for TTY assistance. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on March 12, 2020 (85 FR 14504). No public comments were received in response to this notice.

As part of our continuing effort to reduce paperwork and respondent burdens, we are again soliciting comments from the public and other Federal agencies on the proposed ICR that is described below. We are especially interested in public comment addressing the following:

(1) Whether or not the collection of information is necessary for the proper performance of the functions of the NPS, including whether or not the information will have practical utility;

(2) The accuracy of our estimate of burden for this collection of information, including the validity of the methodology and assumptions used;

(3) Ways to enhance the quality, utility, and clarity of the information to be collected; and

(4) how might the NPS minimize the burden of this collection on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Authorized by the Federal Lands Recreation Enhancement Act (FLREA; 16 U.S.C. 6801-6814), the America the Beautiful—National Parks and Federal Recreation Lands Pass Program provides recreation opportunities on public lands managed by four Department of the Interior agencies: The National Park Service, U.S. Fish and Wildlife Service, Bureau of Land Management, and the Bureau of Reclamation in addition to the Department of Agriculture's U.S. Forest Service and the U.S. Army Corps of Engineers. This program manages the application process and distribution of passes to provide visitors an affordable and convenient way to access Federal recreation lands. The pass program's proceeds are used to improve and enhance visitor recreation services.

NPS Form 10-596, “Interagency Access Pass” is a free, lifetime pass issued to citizens or residents who are domiciled in the United States, regardless of age, who have a medical determination and documentation of permanent disability. Ordering an Access Pass requires a complete application, proof of residency, documentation that proves permanent disability, payment (Lifetime Senior Pass $80 or Annual Senior Pass $20) and the $10 processing fee. Passes can be obtained in person from a participating Federal recreation site or office, through the mail, or on-line via the U.S. Geological Survey (USGS) store at https://store.usgs.gov/access-pass.

If a person arrives at a recreation site and claims eligibility for the Interagency Access Pass, but cannot produce any documentation, that person must read, sign, and date NPS Form 10-597, “Statement of Disability” in the presence of the agency officer issuing the Interagency Access Pass. If the applicant cannot read and/or sign the form, someone else may read, date, and sign the statement on his/her behalf in the applicant's presence and in the presence of the agency officer issuing the Interagency Access Pass.

NPS Form 10-595, “Interagency Senior Pass” is a pass issued to U.S. citizens or permanent residents who are 62 years or older. Senior Passes may be issued on a lifetime or annual basis. Both types of the Senior Pass can be purchased at any federal recreation site, including national parks, that charges an entrance or standard amenity (day-use) fee; online or through the mail from USGS.

Agency websites provide information on the passes and acceptable documentation. All documentation submitted in person or through the mail is returned to the applicant after the form is processed.

Title of Collection: The Interagency Access Pass and Senior Pass Application Processes.

OMB Control Number: 1024-0252.

Form Number: NPS Forms 10-595, 10-596, and 10-597.

Type of Review: Extension of a currently approved collection.

Respondents/Affected Public: Individuals, organizations, businesses, and State, local, or tribal governments.

Total Estimated Number of Annual Respondents: 212,000.

Total Estimated Number of Annual Responses: 212,000.

Estimated Completion Time per Response: Varies from 5 minutes to 10 minutes, depending on activity.

Total Estimated Number of Annual Burden Hours: 22,667.

Respondent's Obligation: Required to obtain or retain a benefit.

Frequency of Collection: On occasion.

Total Estimated Annual Nonhour Burden Cost: $666,000.

An agency may not conduct, or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2020-16435 Filed 7-28-20; 8:45 am]

BILLING CODE 4312-52-P